DEPARTMENT OF ENERGY

Federal Energy Regulatory Commission

[Project No. 1940-029]

Wisconsin Public Service Corporation; Notice of Application Tendered for Filing With the Commission and Establishing Procedural Schedule for Licensing and Deadline for Submission of Final Amendments

Take notice that the following hydroelectric application has been filed with the Commission and is available for public inspection.

a. Type of Application: New Major License.

b. Project No.: P-1940-029.

c. Date filed: March 28, 2016.

d. Applicant: Wisconsin Public Service Corporation.

e. Name of Project: Tomahawk Hydroelectric Project.

f. Location: The existing project is located on the Wisconsin River in Lincoln County, Wisconsin. The project does not affect federal lands.

g. Filed Pursuant to: Federal Power Act 16 U.S.C. 791(a)-825(r).

h. Applicant Contact: Todd P. Jastremski, Asset Manager Hydro Operations, WE Energies, 800 Industrial Park Drive, Iron Mountain, MI 49801; or at (906) 779-4099.

i. FERC Contact: Lee Emery at (202) 502-8379 or by email at lee.emery@ferc.gov.

j. This application is not ready for environmental analysis at this time.

k. The existing Tomahawk Hydroelectric Project consists of: (1) A 27-foot-high, 3,400-foot-long reinforced concrete and embankment dam that includes a 2,450-foot-long left embankment section, a 300-foot-long right embankment section, 9-foot-long sluice gate section, 267-foot-long radial gate section, 160-foot-long slab and buttress section, and a 60-foot-long abutment section with a crest elevation of 1,441.0 feet National Geodetic Vertical Datum (NGVD); (2) a 2,773-acre reservoir (Lake Mohawksin) at a full-pool elevation of 1,435.5 feet NGVD; (3) a 67-foot-long by 41-foot-wide powerhouse containing two 1.3-megawatt (MW) generators providing a combined installed capacity of 2.6 MW; (4) powerhouse intake trash racks with a 2.7-inch clear bar spacing; (5) two 2.4-kilovolt (kV) generator leads and an associated 3.75-megavolt-ampere, 2.4/24.9-kV three phase transformer; (6) an interconnected substation located adjacent to the powerhouse; and (7) appurtenant facilities.

The project is operated in a limited peaking mode, with maximum allowed daily reservoir fluctuations of approximately 0.8 feet (1,435.5 feet NGVD to 1,434.7 feet NGVD). During normal peaking operations, the reservoir is drawn down from the maximum pond elevation during the day and refilled at night providing one peaking cycle per day. The amount of fluctuation is determined primarily by the volume of water which can normally be restored to the Tomahawk reservoir during off-peak hours. During low flow periods, the project is required to maintain a minimum flow of 162 cubic feet per second (cfs) or inflow, whichever is less. The operation of the Tomahawk Project is coordinated with the downstream WPS Projects (Grandfather Falls and Alexander Projects) and with the Grandmother Falls Project to make the most effective use of the available water resource.

The normal tailwater elevation of the project is 1,419.5 feet NGVD. The impoundment provides about 14.5 feet of gross head for power generation purposes. The hydraulic capacity of the project is 2,634 cfs and water flowing through the turbines is discharged via the draft tubes into the tailrace immediately below the dam. Electricity generated from the project is transmitted from the powerhouse via two 2.5-kV generator leads and a 3.75 MVA 2.4/24.9-kV three-phase transformer to the adjacent substation and into Wisconsin Public Service Corporation's distribution system. Wisconsin Public Service Corporation is proposing to continue current operations at the Project for the term of the new license.

l. A copy of the application is available for review at the Commission in the Public Reference Room or may be viewed on the Commission's Web site at http://www.ferc.gov using the “eLibrary” link. Enter the docket number excluding the last three digits in the docket number field to access the document. For assistance, contact FERCOnlineSupport@ferc.gov, (866) 208-3676 (toll free) or (202) 502-8659 (TTY). A copy is also available for inspection and reproduction at the address in item h above.

m. You may also register online at http://www.ferc.gov/docs-filing/esubscription.asp to be notified via email of new filings and issuances related to this or other pending projects. For assistance, contact FERC Online Support.

n. Procedural schedule:

The application will be processed according to the following preliminary Hydro Licensing Schedule. Revisions to the schedule may be made as appropriate.

Milestone | Target date
Notice of Acceptance/Notice of Ready for Environmental Analysis | June 2016.
Filing of recommendations, preliminary terms and conditions, and fishway prescriptions | August 2016.
Issue Environmental Assessment (EA) | December 2016.
Comments due on EA | January 2017.
Modified terms and conditions | March 2017.

o. Final amendments to the application must be filed with the Commission no later than 30 days from the issuance date of the notice of ready for environmental analysis.

Dated: April 6, 2016.
Kimberly D. Bose,
Secretary.

[FR Doc. 2016-08861 Filed 4-15-16; 8:45 am]

BILLING CODE 6717-01-P